DEPARTMENT OF HEALTH AND HUMAN SERVICES

National Institutes of Health

Office of the Secretary; Amended Notice of Meeting

Notice is hereby given of a change in the meeting of the Interagency Autism Coordinating Committee, January 24, 2024, 9:00 a.m. to January 24, 2024, 5:00 p.m., National Institutes of Health, Neuroscience Center, 6001 Executive Boulevard, Rockville, MD 20852 which was published in the Federal Register on November 8, 2023, FR Doc. No. 2023-24705, 88 FR 77102.

This Notice is being amended to change the meeting start time from 9:00 a.m. to 10:00 a.m. The location remains the same. This hybrid meeting will also be accessible remotely at https://videocast.nih.gov/watch=53783. The meeting is open to the public.

Dated: January 4, 2024.
Melanie J. Pantoja,
Program Analyst, Office of Federal Advisory Committee Policy.

[FR Doc. 2024-00288 Filed 1-9-24; 8:45 am]

BILLING CODE 4140-01-P